DEPARTMENT OF THE TREASURY

Internal Revenue Service

26 CFR Part 1

[TD 9297]

RIN 1545-BG02

Residence Rules Involving U.S. Possessions; Correction

AGENCY: Internal Revenue Service (IRS), Treasury.

ACTION: Correction to final regulations.

SUMMARY: This document contains corrections to final regulations that were published in the Federal Register on Tuesday, November 14, 2006 (71 FR 66232) relating to rules for determining bona fide residency in the following U.S. territories: American Samoa, Guam, the Northern Mariana Islands, Puerto Rico, and the United States Virgin Islands.

DATES: These corrections are effective November 14, 2006.

FOR FURTHER INFORMATION CONTACT: David Varley, (202) 435-5262 (not a toll-free number).

SUPPLEMENTARY INFORMATION:

Background

The final regulations (TD 9297) that are the subject of these corrections are under section 937 of the Internal Revenue Code.

Need for Correction

As published, the final regulations (TD 9297) contain errors that may be misleading and are in need of clarification.

Correction of Publication

Accordingly, the final regulations (TD 9297) that were the subject of FR Doc. E6-19135 are corrected as follows:

1. On page 66232, column 2, in the preamble, under the “Title Headings”, the language [TD[9297]]” is corrected to read “[TD 9297].”

2. On page 66232, column 2, in the preamble, under the paragraph heading, “Background”, first paragraph of the column, lines 1 through 5 from the bottom of the paragraph, the language “section 937(a) dealing with determining residency in a territory, adopting with amendments the proposed regulations (specifically, § 1.937-1 and 1.881-5T(f)(4))” is corrected to read “section 937(a) concerning the determination of residency in a territory and adopting with amendments the proposed regulations (specifically, §§ 1.937-1 and 1.881-5(f)(4)).”

3. On page 66232, column 3, in the preamble, under the paragraph heading, “Background”, second paragraph of the column, line 8 from the bottom of the paragraph, the language “relevant territory for the purposes of the” is corrected to read “relevant territory for purposes of the”.

4. On page 66232, column 3, in the preamble, under the paragraph heading, “Background”, third paragraph of the column, line 10 from the bottom of the paragraph, the language “presence test of section 7701(b) on the” is corrected to read “presence test of section 7701(b) to determine bona fide residency in a territory on the”.

5. On page 66233, column 1, in the preamble, under the paragraph heading, “Explanation of Provisions”, first paragraph of the column, lines 12 and 13, the language, “for business pursuits, have concluded nonetheless that such a rule would be” is corrected to read “for business pursuits but have concluded that such a rule would be”.

6. On page 66233, column 1, in the preamble, under the paragraph heading, “Explanation of Provisions”, first paragraph, line 4 from the bottom of the paragraph, the language “the final regulations, provide sufficient” is corrected to read “these final regulations, provide sufficient”.

7. On page 66233, column 1, in the preamble, under the paragraph heading, “Explanation of Provisions”, second paragraph, lines 15 through 19 from the bottom of the paragraph, the language “States, even though the individual is not present in the United States, and will treat such days as days of presence in the relevant territory. In addition, the regulations provide for relief in case” is corrected to read “States, even if the individual is physically present in the United States, and will treat such days as days of presence in the relevant territory. In addition, the regulations provide for similar relief in case”.

8. On page 66233, column 2, in the preamble, under the paragraph heading, “Explanation of Provisions”, third paragraph of the column, lines 8 and 9, the language “accommodate the realities of business cycles and life in the territories. The IRS” is corrected to read “accommodate the reality that business cycles and life in the territories may require more time away from the territories in some years than in others. The IRS”.

La Nita VanDyke,
Chief, Publications and Regulations Branch, Legal Processing Division, Office of Associate Chief Counsel (Procedure and Administration).

[FR Doc. E6-21566 Filed 12-18-06; 8:45 am]

BILLING CODE 4830-01-P